DEPARTMENT OF TRANSPORTATION

Federal Aviation Administration

14 CFR Part 73

[Docket No. FAA-2015-0265; Airspace Docket No. 14-ASW-11]

RIN 2120-AA66

Amendment of Restricted Areas R-3801A, R-3801B, and R-3801C; Camp Claiborne, LA

AGENCY: Federal Aviation Administration (FAA), DOT.

ACTION: Final rule; technical amendment.

SUMMARY: This action updates using agency information for restricted areas R-3801A, R-3801B, and R-3801C, Camp Claiborne, LA. This is an administrative change to reflect an organizational transfer of using agency responsibilities within the United States Air Force. It does not affect the boundaries, designated altitudes, time of designation or activities conducted within the restricted areas.

DATES: Effective date: 0901 UTC, April 30, 2015.

FOR FURTHER INFORMATION CONTACT: Colby Abbott, Airspace Policy and Regulations Group, Office of Airspace Services, Federal Aviation Administration, 800 Independence Avenue SW., Washington, DC 20591; telephone: (202) 267-8783.

SUPPLEMENTARY INFORMATION:

Background

On January 6, 1994, the FAA amended restricted areas R-3801A, R-3801B, and R-3801C to reflect “U.S. Air Force, 917 Fighter Wing, Barksdale AFB, LA” as the using agency. Due to multiple U.S. Air Force organizational initiatives since 1994, the 917th Fighter Wing changed to the 917th Wing and then to the 917th Fighter Group. As a result of the 917th Fighter Group deactivating in 2013, the using agency responsibilities were transferred within the U.S. Air Force to the 307th Bomb Wing at Barksdale AFB, where they remain today.

The organizational changes listed above did not alter the location, size, or use of the restricted areas from the current parameters.

The Rule

This action amends Title 14 Code of Federal Regulations (14 CFR) part 73 by updating the using agency name for restricted areas R-3801A, R-3801B, and R-3801C, Camp Claiborne, LA. The name change is due to an organizational transfer of restricted area using agency responsibilities within the U.S. Air Force. This is an administrative change that does not affect the boundaries, designated altitudes, or activities conducted within the restricted areas; therefore, notice and public procedure under 5 U.S.C. 553(b) are unnecessary.

The FAA has determined that this action only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it modifies the technical descriptions of restricted areas to ensure that accurate information is available to the flying public for the Camp Claiborne, LA, area.

Environmental Review

The FAA has determined that this action qualifies for categorical exclusion under the National Environmental Policy Act in accordance with FAA Order 1050.1E, Environmental Impacts: Policies and Procedures, paragraph 311d. This airspace action is an administrative change to the description of restricted areas R-3801A, R-3801B, and R-3801C to update the using agency name. It does not alter the dimensions, altitudes, time of designation, or use of the airspace; therefore, it is not expected to cause any potentially significant environmental impacts, and no extraordinary circumstances exists that warrant preparation of an environmental assessment.

List of Subjects in 14 CFR Part 73

Airspace, Prohibited areas, Restricted areas.

Adoption of the Amendment

In consideration of the foregoing, the Federal Aviation Administration amends 14 CFR part 73, as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.38 [Amended]

2. Section 73.38 is amended as follows:

* * * * *

R-3801A Camp Claiborne, LA [Amended]

* * * * *

By removing the words “Using agency. U.S. Air Force, 917 Fighter Wing, Barksdale AFB, LA,” and inserting in their place “Using agency. U.S. Air Force, 307th Bomb Wing, Barksdale Air Force Base, LA.”

R-3801B Camp Claiborne, LA [Amended]

* * * * *

By removing the words “Using agency. U.S. Air Force, 917 Fighter Wing, Barksdale AFB, LA,” and inserting in their place “Using agency. U.S. Air Force, 307th Bomb Wing, Barksdale Air Force Base, LA.”

R-3801C Camp Claiborne, LA [Amended]

* * * * *

By removing the words “Using agency. U.S. Air Force, 917 Fighter Wing, Barksdale AFB, LA,” and inserting in their place “Using agency. U.S. Air Force, 307th Bomb Wing, Barksdale Air Force Base, LA.”

* * * * *

Issued in Washington, DC, on February 24, 2015.
Gary A. Norek,
Manager, Airspace Policy and Regulations Group.

[FR Doc. 2015-04294 Filed 2-27-15; 8:45 am]

BILLING CODE 4910-13-P